NATIONAL SCIENCE FOUNDATION

Proposal Review Panel for Physics; Notice of Meeting

In accordance with the Federal Advisory Committee Act (Pub. L. 92-463, as amended), the National Science Foundation announces the following meeting.

Name: LIGO Operations Proposal and Annual Review in Physics (1208).

Date and Time: Tuesday, December 4, 2012; 8:30 a.m.-6:15 p.m.; Wednesday, December 5, 2012 8:30 a.m.-5:00 p.m.; Thursday, December 6, 2012 8:30 a.m.-3:00 p.m.

Place: California Institute of Technology in Pasadena, CA.

Type of Meeting: Partially closed.

Contact Person: Dr. Thomas Carruthers, Program Director for LIGO Facility, National Science Foundation, 4201 Wilson Blvd., Arlington, VA 22230. Telephone: (703) 292-7373.

Purpose of Meeting: To provide advice and recommendations concerning the LIGO Operations Proposal and Annual Review.

Agenda: To review and evaluate the LIGO Operations proposal review, as part of the selection process.

Tuesday, December 4, 2012

8:30a-12:30p Introductions, Status, Overview Open

Advanced LIGO and Beyond

1:15p-4:45p Astrophysics and Data Analysis Open

Observatory Operations

Role of LIGO Engineering

Computing

4:45p-6:15p Panel Executive Session Closed

6:15p Panel presents questions for Day 2 sessions Open

Wednesday, December 5, 2012

8:30a-9:00a Panel Executive Session Closed

9:00a-10:45a Management and Oversight Open

Scientific Collaboration

Role in the Global Scene: Emphasis on LIGO-India

10:45a-5:00p Executive Sessions—Program Reviews Closed

Thursday, December 6, 2012

8:30a-3:00p Panel Executive Session, Panel Executive Summary, LIGO Response Closed

Reason for Closing: The proposal being reviewed includes information of a proprietary or confidential nature including technical information; financial data, such as salaries; and personal information concerning individuals associated with the proposals. These matters are exempt under 5 U.S.C. 552b (c) and (6) of the Government in the Sunshine Act.

Dated: November 14, 2012.
Susanne Bolton,
Committee Management Officer.

[FR Doc. 2012-28094 Filed 11-16-12; 8:45 am]

BILLING CODE 7555-01-P